FEDERAL MARITIME COMMISSION

46 CFR Part 531

[Docket No. 04-12]

RIN 3072-AC30

Non-Vessel Operating Common Carrier Service Arrangements

AGENCY: Federal Maritime Commission.

ACTION: Proposed rulemaking; extension of time.

SUMMARY: The Commission by Notice of Proposed Rulemaking published November 3, 2004 (69 FR 63981) proposed an exemption from the tariff publication requirements of the Shipping Act of 1984 for service arrangements made by non-vessel-operating common carriers, subject to the conditional filing requirements set forth in this new Part. The Commission has received and determined to grant a request from the Department of Justice, for an extension of time to November 30, 2004 to file comments in this proceeding.

DATES: Comments are now due November 30, 2004. Submit an original and 15 copies of comments (paper), or e-mail comments as an attachment in WordPerfect 10, Microsoft Word 2003, or earlier versions of these applications.

ADDRESSES: Address all comments concerning this proposed rule to: Bryant L. VanBrakle, Secretary, Federal Maritime Commission, 800 North Capitol Street, NW., Room 1046, Washington, DC 20573-0001; (202) 523-5725, e-mail: Secretary@fmc.gov.

FOR FURTHER INFORMATION CONTACT: Amy W. Larson, General Counsel, Federal Maritime Commission, 800 North Capitol Street, NW., Room 1018, Washington, DC 20573-0001; (202) 523-5740, e-mail: GeneralCounsel@fmc.gov; and Austin L. Schmitt, Director, Office of Operations, Federal Maritime Commission, 800 North Capitol Street, NW., Room 1078, Washington, DC 20573-0001, (202) 523-0988.

Bryant L. VanBrakle,
Secretary.

[FR Doc. 04-26125 Filed 11-24-04; 8:45 am]

BILLING CODE 6730-01-P